DEPARTMENT OF VETERANS AFFAIRS

Advisory Committee on CARES Business Plan Studies; Notice of Meeting

The Department of Veterans Affairs (VA) gives notice under Public Law 92-463 (Federal Advisory Committee Act) that the Advisory Committee on CARES Business Plan Studies has scheduled a meeting on February 9, 2007, at VA Palo Alto Health Care System, Livermore Division, Building 90, NHCU Dining Room, 4951 Arroyo Road, Livermore, CA. The meeting will convene at 9 a.m. and conclude at 4:30 p.m. The meeting is open to the public.

The purpose of the Committee is to provide advice to the Secretary of Veterans Affairs on proposed business plans at those VA facility sites identified in May 2004 as requiring further study by the Capital Asset Realignment for Enhanced Services (CARES) Decision document.

The objective of the meeting is to provide the Secretary with advice regarding the final selection of a business planning option from those previously selected by the Secretary for further study. An analysis of the business planning options completed by the VA contractor is to be presented prior to their submission to the VA. The agenda will also accommodate public commentary on the options.

Interested persons may attend and present oral or written statements to the Committee. For additional information regarding the meeting, please contact Mr. Jay Halpern, Designated Federal Officer, (00CARES), at 810 Vermont Avenue, NW., Washington, DC 20420, by phone at (202) 273-5994, or by e-mail at jay.halpern@hq.med.va.gov.

Dated: January 10, 2007.
By Direction of the Secretary.
E. Philip Riggin,
Committee Management Officer.

[FR Doc. 07-183 Filed 1-17-07; 8:45 am]

BILLING CODE 8320-01-M